DEPARTMENT OF ENERGY

Federal Energy Regulatory Commission

[Docket No. RP00-549-000]

U-T Offshore System, L.L.C.; Notice of Tariff Filing

September 21, 2000.

Take notice that on September 15, 2000, U-T Offshore System, L.L.C. (UTOS), tendered for filing as part of its FERC Gas Tariff, Fourth Revised Volume No. 1, the revised tariff sheets listed in Appendix A to the filing, with an effective date of October 1, 2000.

UTOS states that this filing is made in compliance with the Commission's mandate under Order No. 637 that pipelines file to remove any tariff provisions that are inconsistent with the temporary removal of the maximum rate ceiling for short term capacity releases.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-24769 Filed 9-26-00; 8:45 am]

BILLING CODE 6717-01-M